DEPARTMENT OF TRANSPORTATION

Federal Highway Administration

Notice of Final Federal Agency Action on Proposed Interchange in Georgia, Interstate 285 (I-285) at Interstate 20 (I-20) Reconstruction Project, Cobb, Douglas, and Fulton Counties, Georgia

AGENCY: Federal Highway Administration (FHWA), Department of Transportation (DOT).

ACTION: notice of limitations on claims for judicial review of action by FHWA and other Federal agencies.

SUMMARY: This notice announces actions taken by FHWA and other Federal agencies that are final. This final agency action relates to a proposed interchange reconstruction and widening project, the I-285 at I-20 Interchange Reconstruction Project. Along I-20, the proposed project begins at the Thornton Road interchange eastbound I-20 on-ramp and ends at the Hamilton E. Holmes interchange for a total length of approximately 6.5-miles. Along I-285, the proposed project begins just south of the Martin Luther King (MLK) Jr. Drive interchange and extends north to the Donald Lee (DL) Hollowell Parkway interchange for a total length of approximately 2.4-miles. The FHWA's Finding of No Significant Impact (FONSI) provides details on the Selected Alternative for the proposed interchange and will be used by Federal Agencies in subsequent proceedings, including decisions whether to grant licenses, permits, and approvals for the highway project.

DATES: By this notice, FHWA is advising the public of the final agency actions subject to 23 U.S.C. 139(l)(1). A claim seeking judicial review of the Federal agency actions on the highway project will be barred unless the claim is filed on or before July 19, 2024. If the Federal law that authorizes judicial review of a claim provides a time period of less than 150 days for filing such claim, then that shorter time period still applies.

FOR FURTHER INFORMATION CONTACT: For FHWA: Ms. Sabrina David, Division Administrator, Georgia Division, Federal Highway Administration, 75 Ted Turner Drive, Suite 1000, Atlanta, Georgia 30303; telephone (404) 562-3630; email: Sabrina.David@dot.gov. The FHWA's normal business hours are 8:00 a.m. to 5:00 p.m. (eastern time) Monday through Friday. For Georgia Department of Transportation (GDOT): Mr. Russell McMurray, Commissioner, Georgia Department of Transportation, 600 West Peachtree Street, 22nd Floor, Atlanta, Georgia 30308; telephone (404) 631-1990; email: RMcMurray@dot.ga.gov. The GDOT's normal business hours are 8:00 a.m. to 5:00 p.m. (eastern time) Monday through Friday.

SUPPLEMENTARY INFORMATION: Notice is hereby given that FHWA has taken a final agency action by issuing a FONSI for the following new highway project in the State of Georgia:

The I-285 at I-20 Interchange Reconstruction Project located in Cobb, Douglas, and Fulton Counties, Georgia. The Selected Alternative will reconstruct the interchange to remove left hand exits and improve design speed, and also includes modification and/or replacement of existing bridges and ramps. An I-20 westbound collector-distributor (CD) system would be constructed from the interchange to Fulton Industrial Boulevard. Along I-20, the proposed project begins at the Thornton Road interchange eastbound I-20 on-ramp/acceleration lane (which is located at approximately the Factory Shoals Road overpass) and ends at the Hamilton E. Holmes interchange (approximate 6.5-mile length). Along I-285, the proposed project begins just south of the Martin Luther King (MLK) Jr. Drive interchange and extends north to the Donald Lee (DL) Hollowell Parkway interchange (approximate 2.4-mile length). The purpose of the project is listed below:

• Improve traffic flow within the I-285/I-20 West Interchange.

• Improve operations and safety along approximately 6.5 miles of I-20, from Factory Shoals Road to Hamilton E. Holmes Drive, and approximately 2.4 miles of I-285 from just south of the MLK Jr. Drive interchange to the DL Hollowell Parkway interchange.

• Accelerate project delivery through the Major Mobility Investment Program, which is advancing projects across the state to create additional capacity, improve freight movement, provide transportation improvements and efficiencies, enhance safety, and decrease travel times.

The FHWA's action, related actions by other Federal Agencies, and the laws under which such actions were taken, are described in the Environmental Assessment (EA) for the project, approved on November 8, 2022, the FONSI issued on February 14, 2024, and other documents in the project file. The EA, FONSI and other project records are available by contacting FHWA or GDOT at the addresses listed in the FOR FURTHER INFORMATION CONTACT section of this notice. The EA and FONSI can also be reviewed and downloaded from the project website at https://0013918-gdot.hub.arcgis.com.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Noise: Noise Control Act of 1972 [42 U.S.C. 4901-4918]; 23 CFR part 772.

4. Land: Section 4(f) of the Department of Transportation Act of 1966 [49 U.S.C. 303].

5. Wildlife: Endangered Species Act (ESA) [16 U.S.C. 1531-1544 and Section 1536]; Fish and Wildlife Coordination Act [16 U.S.C. 661-667d]; Migratory Bird Treaty Act [16 U.S.C. 703-712].

6. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013].

7. Social and Economic: Civil Rights Act of 1964 [42 U.S.C. 2000(d)-2000(d)(1)].

8. Wetlands and Water Resources: Coastal Zone Management Act [16 U.S.C. 1451-1465]; Land and Water Conservation Fund (LWCF) [16 U.S.C. 4601-4604]; Safe Drinking Water Act (SDWA) [42 U.S.C. 300(f)-300(j)(6)]; Wild and Scenic Rivers Act [16 U.S.C. 1271- 1287]; Flood Disaster Protection Act [42 U.S.C. 4001-4128].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 14096 Revitalizing Our Nation's Commitment to Environmental Justice for All; E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13045 Protection of Children From Environmental Health Risks and Safety Risks; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: February 14, 2024.
Sabrina S. David,
Division Administrator, Federal Highway Administration, Atlanta, Georgia.

[FR Doc. 2024-03405 Filed 2-16-24; 8:45 am]

BILLING CODE 4910-RY-P